NUCLEAR REGULATORY COMMISSION

[Docket No. 50-400]

Carolina Power & Light Company (Shearon Harris Nuclear Power Plant, Unit 1); Exemption

I

Carolina Power & Light Company (CP&L or the licensee) is the holder of Facility Operating License No. NPF-63, which authorizes operation of the Shearon Harris Nuclear Power Plant, Unit 1 (HNP) at power levels not to exceed 2775 megawatts thermal. The facility consists of one pressurized-water reactor located at the licensee's site in Wake and Chatham Counties, North Carolina. The license provides, among other things, that the licensee is subject to all rules, regulations, and orders of the Nuclear Regulatory Commission (NRC, the Commission) now or hereafter in effect.

II

Section IV.F.2.b of Appendix E to Title 10 of the Code of Federal Regulations (10 CFR) Part 50 requires each licensee at each site to conduct an exercise of its onsite emergency plan every 2 years and indicates the exercise may be included in the full-participation biennial exercise required by paragraph 2.c. Paragraph 2.c requires offsite plans for each site to be exercised biennially with full participation by each offsite authority having a role under the plan. During such biennial full-participation exercises, the NRC evaluates onsite emergency preparedness activities and the Federal Emergency Management Agency (FEMA) evaluates offsite emergency preparedness activities. CP&L successfully conducted a full-participation exercise for HNP during the week of October 7, 1997. By letter dated December 7, 1999, the licensee requested an exemption from Sections IV.F.2.b and c of Appendix E regarding the conduct of a full-participation exercise originally scheduled for September 21, 1999. Specifically, the licensee proposed rescheduling the exercise originally scheduled for September 21, 1999, and completing the onsite and offsite exercise requirements in two parts. The licensee would use the onsite exercise conducted on January 11, 2000, without the participation of the State of North Carolina and local government response agencies, to meet the onsite requirement. The offsite portion of the exercise would be conducted on June 27, 2000, with the participation of the State of North Carolina and local government response agencies.

The Commission, pursuant to 10 CFR 50.12(a)(1), may grant exemptions from the requirements of 10 CFR Part 50 that are authorized by law, will not present an undue risk to public health and safety, and are consistent with the common defense and security. The Commission, however, pursuant to 10 CFR 50.12(a)(2), will not consider granting an exemption unless special circumstances are present. Under 10 CFR 50.12(a)(2)(v), special circumstances are present whenever the exemption would provide only temporary relief from the applicable regulation and the licensee or applicant has made good faith efforts to comply with the regulation.

III

The licensee requests a one-time change in the schedule for the next full-participation exercise for HNP. Subsequent full-participation exercises for HNP would be scheduled at no greater than 2-year intervals in accordance with 10 CFR Part 50, Appendix E, Section IV.F.2.c. Accordingly, the exemption would provide only temporary relief from that regulation.

As indicated in the licensee's request for an exemption of December 7, 1999, the licensee had originally scheduled a full-participation exercise for September 21, 1999. As further set forth in that letter, however, due to the significant impact and damage from hurricane “Floyd,” the State of North Carolina and the local emergency response agencies were occupied with responding to the natural disaster and were unable to participate in and could not support the exercise. In discussions on September 14, 1999, the NRC and FEMA indicated concurrence with rescheduling the exercise due to preparations and response to hurricane “Floyd.” In a letter dated January 19, 2000, FEMA documented its support for rescheduling the exercise. Accordingly, the licensee made a good faith effort to comply with the schedule requirements of Appendix E for full-participation exercises.

The staff completed its evaluation of the licensee's request for an exemption. The staff, having considered the schedule and resource issues resulting from responding to hurricane “Floyd” and the subsequent flooding, and the fact that the licensee conducted the onsite portion of the exercise on January 11, 2000, only 3 months beyond the required interval, finds the request acceptable.

IV

The Commission has determined that, pursuant to 10 CFR Part 50, Appendix E, this exemption is authorized by law, will not endanger life or property or the common defense and security, and is otherwise in the public interest. Further, the Commission has determined, pursuant to 10 CFR 50.12(a), that special circumstances of 10 CFR 50.12(a)(v) are applicable in that the exemption would provide only temporary relief from the applicable regulation and the licensee has made good faith efforts to comply with the regulation. Therefore, the Commission hereby grants the exemption from Section IV.F.2.b and c of Appendix E to 10 CFR Part 50.

Pursuant to 10 CFR 51.32, the Commission has determined that the granting of this exemption will have no significant impact on the quality of the human environment (65 FR 14322).

This exemption is effective upon issuance.

Dated at Rockville, Maryland, this 16th day of March 2000.
For the Nuclear Regulatory Commission.
John A. Zwolinski,
Director, Division of Licensing Project Management, Office of Nuclear Reactor Regulation.

[FR Doc. 00-7238 Filed 3-22-00; 8:45 am]

BILLING CODE 7590-01-P